DEPARTMENT OF LABOR

Employment and Training Administration

Investigations Regarding Certifications of Eligibility to Apply For Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 18, 2004.

Interested persons are invited to submit written comments regarding the subject matter or the investigations to the Director, Division of Trade Adjustment Assistance, at the address shown below, not later than October 18, 2004.

The petitions filed in this case are available for inspection at the Office of the Director, Division of Trade Adjustment Assistance, Employment and Training Administration, U.S. Department of Labor, Room C-5311, 200 Constitution Avenue, NW., Washington, DC 20210.

Signed at Washington, DC this 28th day of September 2004.
Timothy Sullivan
Director, Division of Trade Adjustment Assistance.

Appendix
[Petitions Instituted Between 09/13/2004 and 09/24/2004]
TA-W | Subject firm (petitioners) | Location | Date of institution | Date of petition
55,589 | Island Aquaculture (Comp) | Machiasport, ME | 09/13/2004 | 09/08/2004
55,590 | New DHC (Comp) | Machiasport, ME | 09/13/2004 | 09/08/2004
55,591 | Oquossoc Hatchery (Comp) | Machiasport, ME | 09/13/2004 | 09/08/2004
55,592 | Advantek, Inc. (MN) | Minnetonka, MN | 09/13/2004 | 09/13/2004
55,593 | Kongsberg Automotive, Inc. (Comp) | Farmington Hill, MI | 09/13/2004 | 09/13/2004
55,594 | Bosch-Rexroth Corp. (Wkrs) | Wooster, OH | 09/13/2004 | 09/03/2004
55,595 | Towne Square 2000, Inc. (Comp) | Hillsboro, TX | 09/13/2004 | 09/07/2004
55,596 | Interdynamics, Inc. (Comp) | Brooklyn, NY | 09/13/2004 | 08/19/2004
55,597A | VF Jeanswear Limited Partnership (Comp) | Fabens, TX | 09/13/2004 | 09/10/2004
55,597B | VF Jeanswear Limited Partnership (Comp) | El Paso, TX | 09/13/2004 | 09/10/2004
55,597C | VF Jeanswear Limited Partnership (Comp) | El Paso, TX | 09/13/2004 | 09/10/2004
55,597 | VF Jeanswear Limited Partnership (Comp) | El Paso, TX | 09/13/2004 | 09/10/2004
55,598 | Stillman Seals (Comp) | Carlsbad, CA | 09/13/2004 | 08/31/2004
55,599 | Olympia Limited, Inc. (Comp) | Hoboken, NJ | 09/13/2004 | 09/03/2004
55,600 | Xerox Corp. (Wkrs) | El Segunda, CA | 09/13/2004 | 08/20/2004
55,601 | California Cedar Products Co. (Comp) | Stockton, CA | 09/13/2004 | 08/31/2004
55,602 | Flexfab, LLC (Comp) | Albion, IN | 09/14/2004 | 09/13/2004
55,603 | United States Can (Wkrs) | New Castle, PA | 09/14/2004 | 09/13/2004
55,604 | Leybold Vacuum USA (Wkrs) | Morgan Hill, CA | 09/14/2004 | 08/18/2004
55,605 | Metromont Materials (Wkrs) | Morganton, NC | 09/14/2004 | 08/27/2004
55,606 | Siskiyou Gifts (Comp) | Medford, OR | 09/14/2004 | 09/03/2004
55,607 | Creo Americas, Inc. (Comp) | Billerica, MA | 09/15/2004 | 09/07/2004
55,608 | Loring Coat, Inc. (Wkrs) | Newburgh, NY | 09/15/2004 | 08/25/2004
55,609 | Chicago Miniature Opto Electronic Tech. (NJ) | Newton, NJ | 09/15/2004 | 09/14/2004
55,610 | Broyhill Harper Furniture (Wkrs) | Lenoir, NC | 09/15/2004 | 09/14/2004
55,611 | KM Company (Wkrs) | San Francisco, CA | 09/15/2004 | 09/01/2004
55,612 | Tally Genicom, LP (Comp) | Waynesboro, VA | 09/15/2004 | 09/13/2004
55,613 | Kerry, Inc. (Wkrs) | Clinton Twp., MI | 09/16/2004 | 09/10/2004
55,614 | Technical Fabricators, Inc. (Comp) | Spartanburg, SC | 09/16/2004 | 09/09/2004
55,615 | Innovative Leather Tech., LLC (Wkrs) | Livonia, MI | 09/16/2004 | 09/13/2004
55,616 | Northwest Company (The) (Comp) | Ronda, NC | 09/16/2004 | 08/17/2004
55,617 | Levi Strauss and Co. (Comp) | San Francisco, CA | 09/16/2004 | 09/14/2004
55,618 | Skip's Cutting, Inc. (Comp) | New Holland, PA | 09/16/2004 | 09/14/2004
55,619 | Carolina Candle Lites, Inc. (Comp) | Thurmond, NC | 09/16/2004 | 09/07/2004
55,620 | Holt Sublimation Printing and Products (Wkrs) | Burlington, NC | 09/16/2004 | 09/09/2004
55,621 | Southern Mills, Inc. (Comp) | Newnan, GA | 09/16/2004 | 08/30/2004
55,622 | Kamco Plastics, Inc. (Comp) | Galesburg, IL | 09/16/2004 | 08/30/2003
55,623 | Superior Printing (GCIU) | Warren, OH | 09/16/2004 | 09/14/2004
55,624 | Irwin Manufacturing Corp. (Comp) | Ocilla, GA | 09/20/2004 | 09/10/2004
55,625 | Gateway Country, Stores, LLC (Wkrs) | Whitehall, PA | 09/20/2004 | 09/07/2004
55,626 | CPS Color (Wkrs) | Philadelphia, PA | 09/20/2004 | 09/03/2004
55,627 | Allied Healthcare Products (UFCW) | Stuyvesant Fall, NY | 09/20/2004 | 09/07/2004
55,628 | Anaheim Manufacturing Co., (Comp) | Anaheim, CA | 09/20/2004 | 08/23/2004
55,629 | Alcoa—Badin Works (Comp) | Badin, NC | 09/20/2004 | 09/14/2004
55,630 | Microx/Bz Boyz (CA) | Signal Hill, CA | 09/20/2004 | 09/07/2004
55,631 | Custom Finishers, Inc. (Comp) | High Point, NC | 09/20/2004 | 09/16/2004
55,632 | Turck, Inc. (MN) | Plymouth, MN | 09/20/2004 | 09/14/2004
55,633 | Beverly Creations (NJ) | Passaic, NJ | 09/20/2004 | 09/15/2004
55,634 | Carrier Corp. (IBB) | Morrison, TN | 09/20/2004 | 09/15/2004
55,635 | S.R.C. Devices, Inc. (MO) | Earth City, MO | 09/21/2004 | 09/14/2004
55,636 | Fleetguard, Inc. (UAW) | Cookeville, TN | 09/21/2004 | 09/15/2004
55,637 | Eldred Wheeler (Comp) | West Bethel, ME | 09/21/2004 | 09/13/2004
55,638 | DB Textiles (Comp) | Madison, NC | 09/21/2004 | 09/15/2004
55,639 | Maxine Swim Group, Inc. (CA) | Vernon, CA | 09/21/2004 | 09/15/2004
55,640 | Owens Corning, OE, (Soltech) (Wkrs) | W. Hazleton, PA | 09/21/2004 | 09/16/2004
55,641 | Reeves Rubber (Comp) | Albertville, AL | 09/21/2004 | 09/02/2004
55,642 | Hamby Textile Research (Comp) | Garner, NC | 09/21/2004 | 09/14/2004
55,643 | A.O. Smith Electrical Products Co. (Comp) | Owosso, MI | 09/21/2004 | 09/13/2004
55,644 | Modine Mfg. (Comp) | Emporia, KS | 09/21/2004 | 09/16/2004
55,645 | Montrose/CDT (Comp) | Auburn, MA | 09/21/2004 | 09/15/2004
55,646 | Dallco Industries (Wkrs) | Everett, PA | 09/21/2004 | 09/17/2004
55,647 | Freudenberg Nonwovens (Comp) | Madison, TN | 09/21/2004 | 09/08/2004
55,648 | Kimberly-Clark Corp. (State) | New Milford, CT | 09/22/2004 | 09/21/2004
55,649 | Remington Industries (Wkrs) | Benton, TN | 09/22/2004 | 09/10/2004
55,650 | Nokia Mobile Phone, Inc. (Wkrs) | Ft. Worth, TX | 09/22/2004 | 09/11/2004
55,651 | Cooper Tools (UAW) | Dayton, OH | 09/22/2004 | 09/13/2004
55,652 | Eljer Plumbingware, Inc. (Comp) | Ford City, PA | 09/22/2004 | 09/15/2004
55,653 | Providian Financial Corp. (Wkrs) | Arlington, TX | 09/22/2004 | 08/27/2004
55,654 | Elca Fashion, Inc. (State) | El Monte, CA | 09/22/2004 | 09/20/2004
55,655 | Leggett and Platt Inc., Schukra N.A. (State) | Plymouth, MI | 09/23/2004 | 08/24/2004
55,656 | Bombardier Transportation (Comp) | Pittsburgh, PA | 09/23/2004 | 09/08/2004
55,657 | Crescent Enterprises, Inc. (Comp) | Gallatin, TN | 09/23/2004 | 09/16/2004
55,658 | General Dynamics Land Systems, (GDLS) (Wkrs) | Goleta, CA | 09/23/2004 | 09/10/2004
55,659 | GL and V USA, Inc. (Comp) | Watertown, NY | 09/23/2004 | 09/13/2004
55,660 | Toledo Commutator (Wkrs) | Owosso, MI | 09/23/2004 | 09/13/2004
55,661 | Tyco Electronics (State) | Somerville, NJ | 09/23/2004 | 09/15/2004
55,662 | JDS Uniphase (State) | Ewing, NJ | 09/23/2004 | 09/21/2004
55,663 | Hewlett Packard (State) | Garden City, ID | 09/23/2004 | 09/22/2004
55,664 | Weavexx Corp. (Wkrs) | Greenville, TN | 09/23/2004 | 09/15/2004
55,665 | Waltonen Engineering (Wkrs) | Warren, MI | 09/23/2004 | 09/20/2004
55,666 | Smurfit-Stone (Comp) | E. Longmeadow, MA | 09/23/2004 | 09/13/2004
55,667 | Dynamic Maching and Plastics (Comp) | Henry, TN | 09/23/2004 | 08/30/2004
55,668 | Wentworth Mold, Inc. (Comp) | Grain Valley, MO | 09/23/2004 | 09/20/2004
55,669 | Client Logic (Wkrs) | Asheville, NC | 09/23/2004 | 09/17/2004
55,670 | Hartford Technologies Comp. (State) | Rocky Hill, CT | 09/23/2004 | 09/22/2004
55,671 | Henredon Furniture Ind., Inc. (Comp) | Spruce Pine, NC | 09/23/2004 | 09/22/2004
55,672 | American Umbrella (UNITE) | Ridgewood, NY | 09/23/2004 | 08/27/2004
55,673 | Magi, Inc (State) | Okanogan, WA | 09/23/2004 | 09/21/2004
55,674 | Winchester Electronics (State) | Wallingford, CT | 09/23/2004 | 09/22/2004
55,675 | Stimson Lumber Co. (Comp) | Forest Grove, OR | 09/23/2004 | 09/21/2004
55,676 | Longaberger Co. (The) (Wkrs) | Hartville, OH | 09/23/2004 | 09/22/2004
55,677 | Columbia Products, Inc. (Comp) | Dallastown, PA | 09/23/2004 | 09/17/2004
55,678 | Celestica (Comp) | Milwaukie, OR | 09/24/2004 | 09/22/2004
55,679 | Thor-Tex, Inc. (Comp) | Albemarle, NC | 09/24/2004 | 09/23/2004
55,680 | Seneca Foods, Corp. (Comp) | Dayton, WA | 09/24/2004 | 09/15/2004
55,681 | Jennifer Kay, Inc./California Waves (State) | Los Angeles, CA | 09/24/2004 | 09/20/2004
55,682 | Mercury Marine (Wkrs) | Fond du Lac, WI | 09/24/2004 | 09/23/2004
55,683 | Parker Hannifin Corp. (Comp) | Spartanburg, SC | 09/24/2004 | 09/14/2004
55,684 | Madison Square Furniture, Inc. (Comp) | Hanover, PA | 09/24/2004 | 09/23/2004
55,685 | Sodetal USA, Inc. (Wkrs) | Fountain Inn, SC | 09/24/2004 | 09/14/2004

[FR Doc. 04-22680 Filed 10-7-04; 8:45 am]

BILLING CODE 4510-30-M